DEPARTMENT OF TRANSPORTATION

Federal Aviation Administration

14 CFR Part 39

[Docket No. FAA-2007-26864; Directorate Identifier 2006-NM-228-AD; Amendment 39-15053; AD 2007-10-12]

RIN 2120-AA64

Airworthiness Directives; Boeing Model 737-200, -300, -400, -500, -600, -700, -800, and -900 Series Airplanes; Boeing Model 757-200 and -300 Series Airplanes; and McDonnell Douglas Model DC-10-10, DC-10-10F, DC-10-30, DC-10-30F, DC-10-40, MD-10-30F, MD-11, and MD-11F Airplanes; Equipped With Reinforced Flight Deck Doors Installed in Accordance With Supplemental Type Certificate (STC) ST01335LA, STC ST01334LA, and STC ST01391LA, Respectively

AGENCY: Federal Aviation Administration (FAA), Department of Transportation (DOT).

ACTION: Final rule.

SUMMARY: The FAA is superseding an existing airworthiness directive (AD), which applies to certain transport category airplanes identified above. That AD currently requires modification of the reinforced flight deck door and other actions related to the reinforced flight deck door. Those other actions include modifying the door, inspecting and modifying wiring in the area, and revising the maintenance program to require more frequent testing of the decompression panels of the flight deck door. This new AD continues to require the existing requirements. This new AD adds airplanes to the existing requirement of a one-time inspection for chafing of wire bundles in the area of the flight deck door and corrective actions if necessary. This proposed AD also removes certain airplanes from the applicability. This AD results from a report of smoke and fumes in the cockpit of a Model 737-300 series airplane. We are issuing this AD to prevent inadvertent release of the decompression latch and consequent opening of the decompression panel in the flight deck door, or penetration of the flight deck door by smoke, any of which could result in injury to the airplane flightcrew. We are also proposing this AD to detect and correct wire chafing, which could result in arcing, fire, and/or reduced controllability of the airplane.

DATES: This AD becomes effective June 27, 2007.

On July 19, 2005 (70 FR 34316, June 14, 2005), the Director of the Federal Register approved the incorporation by reference of certain service information.

On July 25, 2003 (68 FR 41063, July 10, 2003), the Director of the Federal Register approved the incorporation by reference of certain other service information.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207; Boeing Commercial Airplanes, Long Beach Division, 3855 Lakewood Boulevard, Long Beach, California 90846, Attention: Data and Service Management, Dept. C1-L5A (D800-0024); or C&D Aerospace, 5701 Bolsa Avenue, Huntington Beach, California 92647-2063; for service information identified in this AD.

FOR FURTHER INFORMATION CONTACT: Ron Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2005-12-05, amendment 39-14121 (70 FR 34316, June 14, 2005). (A correction of that AD was published in the Federal Register on June 28, 2005 (70 FR 37152).) The existing AD applies to Boeing Model 737-200, -300, -400, -500, -600, -700, -800, and -900 series airplanes; Boeing Model 757-200 and -300 series airplanes; and McDonnell Douglas Model DC-10-10, DC-10-10F, DC-10-30, DC-10-30F, DC-10-40, MD-10-10F, MD-10-30F, MD-11, and MD-11F airplanes. That NPRM was published in the Federal Register on January 19, 2007 (72 FR 2475). That NPRM proposed to continue to require modification of the reinforced flight deck door and other actions related to the reinforced flight deck door. Those other actions include modifying the door, inspecting and modifying wiring in the area, and revising the maintenance program to require more frequent testing of the decompression panels of the flight deck door. That NPRM also proposed to add airplanes to the existing requirement of a one-time inspection for chafing of wire bundles in the area of the flight deck door and corrective actions if necessary. That NPRM also proposed to remove certain airplanes from the applicability.

Comments

We provided the public the opportunity to participate in the development of this AD. We have considered the comments that have been received on the NPRM.

Support for the NPRM

Boeing, United Airlines, and the Air Line Pilots Association, International (ALPA) support the intent of the NPRM.

Request To Issue a Separate AD

United Airlines requests that rather than superseding the existing AD, we issue a separate AD action since the new proposed actions are applicable only to the Model 737-300, -400, and -500 series airplanes. The commenter states that if the existing AD is superseded, numerous documents must be updated for all airplane models affected by the earlier actions. The commenter asserts that superseding an already complex compliance plan provides an opportunity for non-compliance and unnecessarily increases an operator's workload.

We acknowledge that the less burdensome approach is to issue a separate AD that applies only to the Model 737-300, -400, and -500 series airplanes. Further, our normal policy is to issue a separate AD when any new requirements would affect only a small portion of the affected airplanes, so that we do not burden operators with the workload associated with revising maintenance record entries. However, in this case, we determined that the existing AD needed to be superseded because we are also removing certain airplanes from the applicability. For certain operators, this final rule is relieving in nature. Therefore, we have not revised this AD in this regard.

Clarification of Alternative Method of Compliance (AMOC) Paragraph

We have revised this action to clarify the appropriate procedure for notifying the principal inspector before using any approved AMOC on any airplane to which the AMOC applies.

Conclusion

We have carefully reviewed the available data, including the comments that have been received, and determined that air safety and the public interest require adopting the AD with the change described previously. We have determined that this change will neither increase the economic burden on any operator nor increase the scope of the AD.

Costs of Compliance

We have determined that about 1,047 additional airplanes (Model 737-300, -400, and -500 series airplanes) in the worldwide fleet are subject to this AD; therefore, there are now about 3,423 airplanes of the affected design in the worldwide fleet. The following table provides the estimated costs, at an average labor rate of $80 per work hour, for U.S. operators to comply with this AD.

Estimated Costs
Action | Model | Work hours | Parts | Cost per airplane | Number of U.S.-registered airplanes | Fleet cost
Modification in paragraph (f) of this AD (required by AD 2005-12-05) | 737-200, -300, -400, -500, -600, -700, -800, and -900 series airplanes, with flight deck door assembly P/N B221001 | 1 | ¹ $0 | $80 | 1,040 | $83,200
| 757-200 and -300 series airplanes, with flight deck door assembly P/N B231001 | 2 | ¹ 0 | 160 | 519 | 83,040
| DC-10-10F, DC-10-30, DC-10-30F, DC-10-40, MD-10-30F, MD-11, and MD-11F airplanes, with flight deck door assembly P/N B211200 | 2 | ¹ 0 | 160 | 21 | 3,360
Revision in paragraph (i) of this AD (required by AD 2005-12-05) | 757-200 and -300 series airplanes | 1 | None | 80 | 651 | 52,080
Modification in paragraph (j) of this AD (required by AD 2005-12-05) | 737-200, -300, -400, -500, -600, -700, -800, and -900 series airplanes; and 757-200 and -300 series airplanes; with flight deck door assembly P/N B221200 | 1 | ¹ 0 | 80 | 1,673 | 133,840
| DC-10-10, DC-10-10F, DC-10-30, DC-10-30F, DC-10-40, MD-10-30F, MD-11, and MD-11F airplanes, with flight deck door assembly P/N B211200 | 1 | ¹0 | 80 | 155 | 12,400
| MD-11 and MD-11F airplanes, with flight deck door assembly P/N B251200 | 1 | ¹ 0 | 80 | 6 | 480
Wiring rework in paragraph (m)(1) of this AD (required by AD 2005-12-05) | 737-200 series airplanes, with flight deck door assembly P/N B221001 | 1 | None | 80 | 134 | 10,720
Inspection in paragraph (m)(2) of this AD (required by AD 2005-12-05) | 737-200 series airplanes, with flight deck door assembly P/N B221001 | 2 | None | 160 | 134 | 21,440
Inspection in paragraph (o) of this AD (additional airplanes) | 737-300, -400, -500 series airplanes, with flight deck door assembly P/N B221001 | 2 | None | 160 | 529 | 84,640
¹ The parts manufacturer states that it will supply required parts to operators at no cost.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14121 (70 FR 34316, June 14, 2005), corrected at 70 FR 37152, June 28, 2005, and by adding the following new airworthiness directive (AD):

2007-10-12 Boeing: Amendment 39-15053. Docket No. FAA-2007-26864; Directorate Identifier 2006-NM-228-AD.

Effective Date

(a) This AD becomes effective June 27, 2007.

Affected ADs

(b) This AD supersedes AD 2005-12-05.

Applicability

(c) This AD applies to airplanes identified in Table 1 of this AD, certificated in any category.

Table 1.—Applicability
Airplane manufacturer | Airplane model | Equipped with C&D Zodiac, Inc. reinforced flight deck doors installed in accordance with Supplemental Type Certificate (STC)—
Boeing | 737-200, -300, -400, -500, -600, -700, -800, and -900 series airplanes | ST01335LA
Boeing | 757-200 and -300 series airplanes | ST01334LA
McDonnell Douglas | DC-10-10, DC-10-10F, DC-10-30, DC-10-30F, DC-10-40, MD-10-30F, MD-11, and MD-11F airplanes | ST01391LA

Unsafe Condition

(d) This AD results from a report of smoke and fumes in the cockpit of a Model 737-300 series airplane. We are issuing this AD to prevent inadvertent release of the decompression latch and consequent opening of the decompression panel in the flight deck door, or penetration of the flight deck door by smoke, any of which could result in injury to the airplane flightcrew. We are also issuing this AD to detect and correct wire chafing, which could result in arcing, fire, and/or reduced controllability of the airplane.

Compliance

(e) You are responsible for having the actions required by this AD performed within the compliance times specified, unless the actions have already been done.

Restatement of Requirements of AD 2005-12-05

Note 1: Where there are differences between this AD and the referenced service bulletins, this AD prevails.

Modification

(f) For airplanes listed in Table 2 of this AD: Within 90 days after July 25, 2003 (the effective date of AD 2003-14-04, amendment 39-13223), modify the reinforced flight deck door according to paragraph (f)(1), (f)(2), or (f)(3) of this AD, as applicable. (AD 2003-14-04 was superseded by AD 2005-12-05.)

Table 2.—Airplane Models Subject to Requirements of AD 2003-14-04
Airplane manufacturer | Airplane models | Identified in C&D Aerospace Service Bulletin
Boeing | 737-200, -300, -400, -500, -600, -700, -800, and -900 series airplanes | B221001-52-03, Revision 3, dated March 25, 2003.
Boeing | 757-200 and -300 series airplanes | B231001-52-02, Revision 4, dated March 19, 2003.
McDonnell Douglas | DC-10-10F, DC-10-30, DC-10-30F, DC-10-40, MD-10-30F, MD-11, and MD-11F airplanes | B211200-52-02, Revision 1, dated June 3, 2003.

(1) For Boeing Model 737-200, -300, -400, -500, -600, -700, -800, and -900 series airplanes: Modify the upper and lower pressure relief latch assemblies on the flight deck door by doing all actions specified in and according to paragraphs 3.A., 3.B., and 3.C. of the Accomplishment Instructions of C&D Aerospace Service Bulletin B221001-52-03, Revision 3, dated March 25, 2003. One latch strap should be installed at the bottom of the upper pressure relief assembly, and a second latch strap should be installed at the top of the lower pressure relief assembly. When properly installed, the strap should cover a portion of the latch hook.

(2) For Boeing Model 757-200 and -300 series airplanes: Modify the upper and lower pressure relief latch assemblies on the flight deck door by doing all actions specified in and according to paragraphs 3.A., 3.B., and 3.C. of the Accomplishment Instructions of C&D Aerospace Service Bulletin B231001-52-02, Revision 4, dated March 19, 2003. One latch strap should be installed at the bottom of the upper pressure relief assembly, and a second latch strap should be installed at the top of the lower pressure relief assembly. When properly installed, the strap should cover a portion of the latch hook.

(3) For McDonnell Douglas DC-10-10F, DC-10-30, DC-10-30F, DC-10-40, MD-10-30F, MD-11, and MD-11F airplanes: Install spacers in the upper and lower pressure relief latch assemblies of the flight deck door, by doing all actions specified in and according to paragraphs 3.A., 3.C., and 3.D. of C&D Aerospace Service Bulletin B211200-52-02, Revision 1, dated June 3, 2003; or Revision 2, dated September 29, 2003.

Modifications Accomplished Per Previous Issues of Service Bulletin

(g) For airplanes listed in Table 2 of this AD: Modifications accomplished before July 25, 2003, in accordance with a service bulletin listed in paragraph (g)(1), (g)(2), or (g)(3) of this AD; as applicable; are considered acceptable for compliance with the corresponding action specified in paragraph (f) of this AD.

(1) For Boeing Model 737-200, -300, -400, -500, -600, -700, -800, and -900 series airplanes: C&D Aerospace Service Bulletin B221001-52-03, dated December 6, 2002; Revision 1, dated January 2, 2003; or Revision 2, dated February 20, 2003.

(2) For Boeing Model 757-200 and -300 series airplanes: C&D Aerospace Service Bulletin B231001-52-02, dated December 6, 2002; Revision 1, dated January 2, 2003; Revision 2, dated February 20, 2003; or Revision 3, dated March 7, 2003.

(3) For McDonnell Douglas DC-10-10F, DC-10-30, DC-10-30F, DC-10-40, MD-10-30F, MD-11, and MD-11F airplanes: C&D Aerospace Service Bulletin B211200-52-02, dated April 30, 2003.

Parts Installation

(h) As of July 25, 2003, no person may install, on any airplane, a reinforced flight deck door having any part number (P/N) listed in paragraph 1.A. of C&D Aerospace Service Bulletin B221001-52-03, Revision 3, dated March 25, 2003; B231001-52-02, Revision 4, dated March 19, 2003; or B211200-52-02, Revision 1, dated June 3, 2003; as applicable; unless the door has been modified as required by paragraph (f) of this AD.

Model 737 and 757 Series Airplanes: Revise Maintenance Program

(i) For Boeing Model 737-200, -300, -400, -500, -600, -700, -800, and -900 series airplanes; and Model 757-200 and -300 series airplanes: Within 6 months after July 19, 2005 (the effective date of AD 2005-12-05), revise the FAA-approved maintenance inspection program to include the information specified in C&D Aerospace Report CDRB22-69, Revision E, dated November 8, 2002.

Modifications to Flight Deck Door

(j) Modify the reinforced flight deck door by doing all applicable actions specified in the applicable service bulletin listed in Table 3 of this AD at the applicable compliance time specified in that table. Where the applicable service bulletin includes an instruction to install a placard to show that the service bulletin has been accomplished, this AD does not require that action.

Table 3.—New Modifications to the Flight Deck Door
For these models— | Equipped with a flight deck door assembly having this P/N— | Within this compliance time after July 19, 2005— months | Do all actions in the accomplishment instructions of—
McDonnell Douglas Model DC-10-10, DC-10-10F, DC-10-30, DC-10-30F, DC-10-40, MD-10-30F, MD-11, and MD-11F airplanes | B211200 | 6 | C&D Aerospace Service Bulletin B211200-52-01, Revision 3, dated September 18, 2003.
McDonnell Douglas Model MD-11 and MD-11F airplanes | B251200 | 6 | C&D Aerospace Service Bulletin B251200-52-01, dated April 30, 2003.
Boeing Model 737-200, -300, -400, -500, -600, -700, -800, and -900 series airplanes; and Model 757-200 and -300 series airplanes | B221200 | 18 | C&D Aerospace Service Bulletin B221200-52-01, Revision 1, dated June 27, 2003.
Boeing Model 737-200, -300, -400, -500, -600, -700, -800, and -900 series airplanes | B221001 | 18 | C&D Aerospace Service Bulletin B221001-52-03, Revision 3, dated March 25, 2003; except as provided by paragraph (k) of this AD.
Boeing Model 757-200 and -300 series airplanes | B231001 | 18 | C&D Aerospace Service Bulletin B231001-52-02, Revision 4, dated March 19, 2003; except as provided by paragraph (k) of this AD.
McDonnell Douglas DC-10-10, DC-10-10F, DC-10-30, DC-10-30F, DC-10-40, MD-10-30F, MD-11, and MD-11F airplanes | B211200 | 18 | C&D Aerospace Service Bulletin B211200-52-02, Revision 1, dated June 3, 2003; or Revision 2, dated September 29, 2003; except as provided by paragraph (k) of this AD.

(k) For airplanes subject to paragraph (f) of this AD: Actions required by paragraph (f) of this AD that were done within the compliance time specified in paragraph (f) of this AD do not need to be repeated in accordance with paragraph (j) of this AD.

Modifications Accomplished per Previous Issues of Service Bulletin

(l) Modifications accomplished before July 19, 2005, in accordance with an applicable service bulletin listed in Table 4 of this AD are considered acceptable for compliance with the corresponding action specified in paragraph (j) of this AD.

Table 4.—Acceptable Service Information for Previous Modifications
Service Bulletin | Revision level | Date
C&D Aerospace Service Bulletin B211200-52-01 | Original | February 27, 2003.
C&D Aerospace Service Bulletin B211200-52-01 | 1 | March 7, 2003.
C&D Aerospace Service Bulletin B211200-52-01 | 2 | June 3, 2003.
C&D Aerospace Service Bulletin B211200-52-02 | Original | April 30, 2003.
C&D Aerospace Service Bulletin B221001-52-03 | Original | December 6, 2002.
C&D Aerospace Service Bulletin B221001-52-03 | 1 | January 2, 2003.
C&D Aerospace Service Bulletin B221001-52-03 | 2 | February 20, 2003.
C&D Aerospace Service Bulletin B221200-52-01 | Original | April 30, 2003.
C&D Aerospace Service Bulletin B231001-52-02 | Original | December 6, 2002.
C&D Aerospace Service Bulletin B231001-52-02 | 1 | January 2, 2003.
C&D Aerospace Service Bulletin B231001-52-02 | 2 | February 20, 2003.
C&D Aerospace Service Bulletin B231001-52-02 | 3 | March 7, 2003.

Model 737-200 Series Airplanes: Wiring Modification/Inspection

(m) For Boeing Model 737-200 series airplanes equipped with flight deck door assembly P/N B221001: Within 18 months after July 19, 2005, do paragraphs (m)(1) and (m)(2) of this AD.

(1) Rework the wiring for the flight deck door to relocate a power wire for the flight deck door, in accordance with the Accomplishment Instructions of C&D Aerospace Alert Service Bulletin B221001-52A05, Revision 3, dated October 3, 2003. Actions accomplished before July 19, 2005, in accordance with C&D Aerospace Alert Service Bulletin B221001-52A05, dated April 17, 2003; Revision 1, dated May 14, 2003; or Revision 2, dated June 19, 2003; are acceptable for compliance with the corresponding action required by this paragraph.

(2) Perform a general visual inspection for chafing of wire bundles in the area of the flight deck door and applicable corrective actions by doing all of the actions in the Accomplishment Instructions of C&D Aerospace Alert Service Bulletin B221001-52A02, dated November 5, 2002; except where the service bulletin specifies installing a placard, this AD does not require that action. Any applicable corrective actions must be done before further flight.

Note 2: For the purposes of this AD, a general visual inspection is “a visual examination of an interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

Parts Installation

(n) As of July 19, 2005, no person may install a reinforced flight deck door under any STC listed in Table 1 of this AD, on any airplane, unless all applicable requirements of this AD have been done on the door.

New Requirements of This AD

Inspection and Corrective Actions if Necessary for Certain Airplanes

(o) For Boeing Model 737-300, -400, and -500 series airplanes equipped with flight deck door assembly P/N B221001: Within 18 months after the effective date of this AD, do the actions specified in paragraph (m)(2) of this AD.

Alternative Methods of Compliance (AMOCs)

(p)(1) The Manager, Los Angeles Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2005-12-05 are approved as AMOCs for the corresponding provisions of this AD.

Material Incorporated by Reference

(q) You must use the service information listed in Table 5 of this AD to perform the actions that are required by this AD, unless the AD specifies otherwise.

Table 5.—Material Incorporated by Reference
Service information | Revision level | Date
C&D Aerospace Alert Service Bulletin B221001-52A02 | Original | November 5, 2002.
C&D Aerospace Alert Service Bulletin B221001-52A05 | 3 | October 3, 2003.
C&D Aerospace Service Bulletin B211200-52-01 | 3 | September 18, 2003.
C&D Aerospace Service Bulletin B211200-52-02 | 1 | June 3, 2003.
C&D Aerospace Service Bulletin B211200-52-02 | 2 | September 29, 2003.
C&D Aerospace Service Bulletin B221001-52-03 | 3 | March 25, 2003.
C&D Aerospace Service Bulletin B221200-52-01 | 1 | June 27, 2003.
C&D Aerospace Service Bulletin B231001-52-02 | 4 | March 19, 2003.
C&D Aerospace Service Bulletin B251200-52-01 | Original | April 30, 2003.
C&D Aerospace Report CDRB22-69 | E | November 8, 2002.

(1) On July 19, 2005 (70 FR 34316, June 14, 2005), the Director of the Federal Register approved the incorporation by reference of the service information listed in Table 6 of this AD.

Table 6.—Material Incorporated by Reference on July 19, 2005
Service information | Revision level | Date
C&D Aerospace Alert Service Bulletin B221001-52A02 | Original | November 5, 2002.
C&D Aerospace Alert Service Bulletin B221001-52A05 | 3 | October 3, 2003.
C&D Aerospace Service Bulletin B211200-52-01 | 3 | September 18, 2003.
C&D Aerospace Service Bulletin B211200-52-02 | 2 | September 29, 2003.
C&D Aerospace Service Bulletin B221200-52-01 | 1 | June 27, 2003.
C&D Aerospace Service Bulletin B251200-52-01 | Original | April 30, 2003.
C&D Aerospace Report CDRB22-69 | E | November 8, 2002.

(2) On July 25, 2003 (68 FR 41063, July 10, 2003), the Director of the Federal Register approved the incorporation by reference of the service information listed in Table 7 of this AD.

Table 7.—Material Incorporated by Reference on July 25, 2003
Service Bulletin | Revision level | Date
C&D Aerospace Service Bulletin B211200-52-02 | 1 | June 3, 2003.
C&D Aerospace Service Bulletin B221001-52-03 | 3 | March 25, 2003.
C&D Aerospace Service Bulletin B231001-52-02 | 4 | March 19, 2003.

(3) Contact Boeing Commercial Airplanes, P.O. Box 3707, Seattle, Washington 98124-2207; Boeing Commercial Airplanes, Long Beach Division, 3855 Lakewood Boulevard, Long Beach, California 90846, Attention: Data and Service Management, Dept. C1-L5A (D800-0024); or C&D Aerospace, 5701 Bolsa Avenue, Huntington Beach, California 92647-2063; for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on May 7, 2007.
Stephen P. Boyd,
Acting Manager, Transport Airplane Directorate, Aircraft Certification Service.

[FR Doc. E7-9842 Filed 5-22-07; 8:45 am]

BILLING CODE 4910-13-P